NATIONAL AERONAUTICS AND SPACE ADMINISTRATION

[Notice (00-009)]

Notice of Prospective Copyright License

AGENCY: National Aeronautics and Space Administration.

ACTION: Notice of prospective copyright license.

SUMMARY: NASA hereby gives notice that Safeguards International, Inc. of Yonkers, NY, has applied for an exclusive copyright license in the United States, Canada, and Mexico in NASA Software entitled “RD-40 Fire Inspection Scheduling and Reporting,” which is assigned to the United States of America as represented by the Administrator of the National Aeronautics and Space Administration. Written objections to the prospective grant of a license should be sent to Melanie R. Chan, Licensing & Dual Use Manager, John F. Kennedy Space Center.

DATES: Responses to this Notice must be received on or before March 27, 2000.

FOR FURTHER INFORMATION CONTACT: Melanie R. Chan, Licensing and Dual Use Manager, John F. Kennedy Space Center, Mail Code: MM-E, Kennedy Space Center, FL 32899, telephone (407) 867-6367.

Dated: January 19, 2000.
Edward A. Frankle,
General Counsel.

[FR Doc. 00-1888 Filed 1-26-00; 8:45 am]

BILLING CODE 7510-01-P